POSTAL SERVICE

39 CFR Part 20

International Postal Rates; Proposed Changes

AGENCY: Postal Service.

ACTION: Proposed changes in international postal rates.

SUMMARY: Pursuant to its authority under 39 U.S.C. 407, the Postal Service is proposing changes in international postal rates for certain surface mail categories. As required under the Postal Reorganization Act, the proposed changes will result in international postal rates that do not apportion the costs of the service so as to impair the overall value of the service to the users, are fair and reasonable, and are not unduly or unreasonably discriminatory or preferential.

DATES: Comments on the proposed changes must be received on or before March 31, 2000.

ADDRESSES: Written comments should be sent to the Manager, International Pricing, International Business, U.S. Postal Service, 475 L'Enfant Plaza SW Room 370-IBU, Washington DC 20260-6500. Copies of all written comments will be available for public inspection between 9:00 a.m. and 4:00 p.m., Monday through Friday, in International Business, 10th Floor, 901 D Street SW, Washington DC.

FOR FURTHER INFORMATION CONTACT: John Alepa, (202) 268-4071.

SUPPLEMENTARY INFORMATION: The proposed international rates, shown in the tables below, are needed by the Postal Service to accommodate changes in the cost of providing international mail service.

The Postal Service is proposing to change only the rates contained in the charts below. These rates include the surface rates for regular printed matter and small packets to Mexico; the publishers' periodicals surface rates for Mexico and all other countries except Canada; and the books and sheet music surface rates for Mexico and all other countries except Canada. No other rates are changed at this time. Although the Postal Service is exempted by 39 U.S.C. 410(a) from the advance notice requirements of the Administrative Procedure Act regarding proposed rulemaking (5 U.S.C. 553), the Postal Service invites public comment at the above address.

The Postal Service proposes to adopt the following rates and to amend the International Mail Manual, which is incorporated by reference in the Code of Federal Regulations. See 39 CFR 20.1.

List of Subjects in 39 CFR Part 20

Foreign relations, International postal services.

PART 20—[AMENDED]

1. The authority citation for 39 CFR part 20 continues to read as follows:

Authority: 5 U.S.C. 552(a); 39 U.S.C. 401, 404, 407, 408.

2. The International Mail Manual will be amended to incorporate the following postage rates:

Mexico—Regular Printed Matter and Small Packets (Surface)
Weight not over— Lb. Oz. | Rate
0 1 | $0.72
0 2 | 0.96
0 3 | 1.27
0 4 | 1.50
0 5 | 1.80
0 6 | 1.80
0 7 | 2.22
0 8 | 2.22
0 9 | 2.63
0 10 | 2.63
0 11 | 2.96
0 12 | 2.96
0 13 | 3.37
0 14 | 3.37
0 15 | 3.77
1 0 | 3.77
1 2 | 4.12
1 4 | 4.46
1 6 | 4.81
1 8 | 5.16
1 10 | 5.50
1 12 | 5.84
1 14 | 6.19
2 0 | 6.54
3 0 | 8.84
4 0 | 11.15
Each additional pound or fraction of a pound | 2.30

(Note: Maximum weight is 4 pounds for small packets and 11 pounds for regular printed matter.)

Publishers' Periodicals (Surface)
Weight not over— Lb. Oz. | Mexico | All other ¹
0 1 | $0.48 | $0.44
0 2 | 0.60 | 0.55
0 3 | 0.78 | 0.71
0 4 | 0.90 | 0.83
0 5 | 1.13 | 1.05
0 6 | 1.13 | 1.05
0 7 | 1.36 | 1.27
0 8 | 1.36 | 1.27
0 9 | 1.57 | 1.50
0 10 | 1.57 | 1.50
0 11 | 1.80 | 1.71
0 12 | 1.80 | 1.71
0 13 | 2.03 | 1.93
0 14 | 2.03 | 1.93
0 15 | 2.26 | 2.15
0 16 | 2.26 | 2.15
0 18 | 2.46 | 2.36
0 20 | 2.68 | 2.56
0 22 | 2.88 | 2.77
0 24 | 3.10 | 2.98
0 26 | 3.30 | 3.19
0 28 | 3.52 | 3.39
0 30 | 3.72 | 3.60
0 32 | 3.94 | 3.81
3 0 | 5.38 | 5.13
4 0 | 6.82 | 6.45
5 0 | 8.26 | 7.77
6 0 | 9.70 | 9.10
7 0 | 11.14 | 10.42
8 0 | 12.58 | 11.74
9 0 | 14.02 | 13.06
10 0 | 15.46 | 14.39
11 0 | 16.90 | 15.71
Each additional pound or fraction of a pound | 1.44 | 1.32
¹ All other countries (except Canada and Mexico).

Books and Sheet Music (Surface)
Weight not over (lbs.) | Mexico | All other ¹
1 | $2.26 | $2.24
2 | 3.94 | 3.97
3 | 5.38 | 5.35
4 | 6.82 | 6.73
5 | 8.26 | 8.11
6 | 9.70 | 9.49
7 | 11.14 | 10.87
8 | 12.58 | 12.25
9 | 14.02 | 13.63
10 | 15.46 | 15.01
11 | 16.90 | 16.39
Each additional pound or fraction of a pound | 1.44 | 1.38
¹ All other countries (except Canada and Mexico).

Stanley F. Mires,
Chief Counsel, Legislative.

[FR Doc. 00-4810 Filed 2-29-00; 8:45 am]

BILLING CODE 7710-12-P